DEPARTMENT OF COMMERCE

National Oceanic and Atmospheric Administration

[RTID 0648-XE915]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Social Science Planning Committee (SSPC), American Samoa Archipelago Fishery Ecosystem Plan (FEP) Advisory Panel (AP), Mariana Archipelago FEP Commonwealth of the Northern Mariana Islands (CNMI) AP, Hawaii Archipelago and Pacific Remote Island Areas (PRIA) FEP AP, Mariana Archipelago FEP Guam AP, and Fishing Industry Advisory Committee (FIAC) to discuss and make recommendations on fishery management issues in the Western Pacific Region.

DATES: The meetings will be held between May 27 and June 2, 2025. For specific times and agendas, see SUPPLEMENTARY INFORMATION.

ADDRESSES: The Council will hold its SSPC, American Samoa Archipelago FEP AP, Hawaii Archipelago and PRIA FEP AP, Mariana Archipelago FEP CNMI AP, Mariana Archipelago FEP Guam AP, and FIAC meetings in a hybrid format with in-person and remote participation (Webex) options available for the members and the public. In person attendance (for members and public) for the SSPC, Hawaii Archipelago and PRIA FEP AP, and FIAC meetings will be hosted at the Council Office, 1164 Bishop St., Suite 1400, Honolulu, Hawaii 96813. In-person attendance for the American Samoa Archipelago FEP AP and public will be hosted at the Tedi of Samoa Suite 208B, P8C6+V2F, Fagotogo Village, AS, 96799. In-person attendance for the Mariana Archipelago FEP CNMI AP and public will be hosted at BRI Building, Suite 205, Kopa Di Oru St., Garapan, Saipan 96950. In-person attendance for the Mariana Archipelago FEP Guam AP and public will be hosted at Cliff Pointe, 304 W O'Brien Drive, Hagatña, GU, 96910. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The SSPC meeting will be held between 12 p.m. noon and 5 p.m. (Hawaii Standard Time [HST]) on Tuesday, May 27, 2025. The American Samoa FEP AP will be held between 6 p.m. and 8 p.m. (Samoa Standard Time [SST]) on Tuesday, May 27, 2025. The Mariana Archipelago FEP CNMI AP will be held between 6 p.m. and 8 p.m. (Chamorro Standard Time [ChST]) on Wednesday, May 28, 2025. The Hawaii Archipelago and PRIA FEP AP will be held between 9 a.m. and 1 p.m. (HST) on Friday, May 30, 2025. The Mariana Archipelago FEP Guam AP will be held between 10 a.m. and 12 p.m. noon (ChST) on Saturday, May 31, 2025. The FIAC will be held between 2 p.m. and 5 p.m. (HST) on Monday, June 2, 2025.

Public Comment periods will be provided in the agendas. The order in which agenda items are addressed may change. The meetings will run as late as necessary to complete scheduled business.

Schedule and Agenda for the SSPC Meeting

Tuesday, May 27, 2025, 12 p.m. to 5 p.m. (HST)

1. Welcome and Introductions

2. Approval of Agenda

3. Annual Stock Assessment and Fishery Evaluation (SAFE) Reports

A. Socioeconomic Modules 2024 Report Updates

B. Fisher Observations

4. Social, Economic, Ecological, and Management (SEEM) Process Review

5. Discussion on Role of SSPC in the Council Process

6. Socioeconomic Considerations for Council Actions and Issues

A. Implementation of Electronic Monitoring (EM) in Hawaii and American Samoa Longline (LL) Fisheries

B. Hawaii and American Samoa LL Fisheries Crew Training Requirement

C. Annual Catch Limits (ACL) Specifications for Main Hawaiian Islands (MHI) Uku for 2026 to 2029

7. Update on NMFS Socioeconomic Programs and Activities

8. Project Updates

9. Other Business

10. Public Comment

11. Discussion and Recommendations

Schedule and Agenda for the American Samoa Archipelago FEP AP Meeting

Tuesday, May 27, 2025, 6 p.m. to 8 p.m. (SST)

1. Welcome and Introductions

2. Review of the Last AP Recommendation and Meeting

3. Council Fisheries Issues

A. 2024 American Samoa SAFE Report

B. Implementation of EM in Hawaii and American Samoa LL Fisheries

C. Hawaii and American Samoa LL Fisheries Crew Training Requirement

4. Council Inflation Reduction Act (IRA) Project Update

A. Scenario Planning

B. Regulatory Review

C. Community Consultation

5. AP Strategic Planning for 2025

6. Public Comment

7. Discussion and Recommendations

8. Other Business

Schedule and Agenda for the Mariana Archipelago FEP CNMI AP Meeting

Wednesday, May 28, 2025, 6 p.m. to 8 p.m. (ChST)

1. Welcome and Introductions

2. Review of the Last AP Recommendation and Meeting

3. Council Fisheries Issues

A. 2024 CNMI Annual SAFE Report

B. 2024 CNMI Bottomfish Stock Assessment Update

4. Council IRA Project Update

A. Scenario Planning

B. Regulatory Review

C. Community Consultation

6. AP Strategic Planning for 2025

7. Public Comment

8. Discussion and Recommendations

9. Other Business

Schedule and Agenda for the Hawaii Archipelago and PRIA FEP AP Meeting

Friday, May 30, 2025, 9 a.m. to 1 p.m. (HST)

1. Welcome and Introductions

2. Review of the Last AP Recommendation and Meeting

3. Council Fisheries Issues

A. 2024 Hawaii Annual SAFE Report

B. ACL Specifications for MHI Uku for 2026 to 2029

C. Implementation of EM in Hawaii and American Samoa LL Fisheries

D. Hawaii and American Samoa LL Fisheries Crew Training Requirement

4. Council IRA Project Update

A. Scenario Planning

B. Regulatory Review

C. Community Consultation

5. State of Hawaii Department of Land and Natural Resources Update

6. Review of Uku Data for Future Management

7. AP Strategic Planning for 2025

8. Public Comment

7. Discussion and Recommendations

8. Other Business

Schedule and Agenda for the Mariana Archipelago FEP Guam AP Meeting

Saturday, May 31, 2025, 10 a.m. to 12 p.m. (ChST)

1. Welcome and Introductions

2. Review of the Last AP Recommendation and Meeting

3. Council Fisheries Issues

A. 2024 Guam Annual SAFE Report

4. Council IRA Project Update

A. Scenario Planning

B. Regulatory Review

C. Community Consultation

6. AP Strategic Planning for 2025

A. Guam Military Working Group Update

7. Public Comment

8. Discussion and Recommendations

9. Other Business

Schedule and Agenda for the FIAC Meeting

Monday, June 2, 2025, 2 p.m. to 5 p.m. (HST)

1. Welcome and Introductions

2. Status Report on Previous FIAC Recommendations

3. Roundtable Update on Fishing/Market Issues/Impacts

4. Hawaii and American Samoa LL Fisheries Crew Training Requirement

5. Implementation of EM in Hawaii and American Samoa LL Fisheries

4. Council IRA Project Updates

A. Scenario Planning

B. Regulatory Review

C. Community Consultation

6. 2024 Annual SAFE Report Highlights

7. Other Business

8. Public Comment

9. Discussion and Recommendations

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 7, 2025.
Rey Israel Marquez,
Branch Chief, Office of Sustainable Fisheries, National Marine Fisheries Service.

[FR Doc. 2025-08373 Filed 5-12-25; 8:45 am]

BILLING CODE 3510-22-P